ENVIRONMENTAL PROTECTION AGENCY

[FRL-6874-3]

Agency Information Collection Activities: Submission for OMB Review; Comment Request; Community Water System Survey

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Information Collection Request for the Community Water System Survey (EPA ICR Number 1946.01). The ICR describes the nature of the information collection and its expected burden and cost; where appropriate, it includes the actual data collection instrument.

DATES: Comments must be submitted on or before October 23, 2000.

ADDRESSES: Send comments, referencing EPA ICR No. 1946.01, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 1946.01 For technical questions about the ICR contact Brian Rourke at (202) 260-7785.

SUPPLEMENTARY INFORMATION: Title: Community Water System Survey (EPA ICR No. 1946.01). This is a new collection.

Abstract: Last conducted in 1995, the Community Water System Survey is usually conducted every five years to gather information on the operating and financial characteristics of a nationally representative sample of community water systems. Specifically, the Agency uses the data provided by this survey to meet its Regulatory Impact Analysis (RIA) obligations under Executive Order 12866 and its obligation to assess and mitigate regulatory impacts on small entities under the Regulatory Flexibility Act and the Small Business Regulatory Enforcement Fairness Act.

As effective analyses must begin with an assessment of the baseline situation, it is essential that the Agency have access to the current financial and operating conditions at water systems. Cost impacts of proposed regulations can only be estimated when something is known about the baseline costs of those bearing the burden. But financial data is only part of the picture. The Agency must also gather information on the operating characteristics of the treatment systems, storage facilities and distribution systems.

This data is critical in estimating the need for new facilities as a consequence of any new Agency regulations. For example, water systems that have already installed treatment processes to treat one sort of contaminant might well not have to install any additional treatment to comply with regulations effecting a similar type of contaminant or one susceptible to the same type of treatment. Because of the magnitude of potential cost impacts of the regulations, even small changes in water system characteristics can produce significant differences in impacts. Hence, it is critical that the Agency use the most up-to-date information available.

Also, under section 1412(b) of the 1996 Safe Drinking Water Act, the Agency must consider the affordability of the treatment technologies that will meet the proposed regulatory requirements. To determine affordability, the Agency must consider both the new, incremental costs that would result from any proposed regulation together with the costs already borne by the water system.

This is a one-time collection effort, and responses to the collection of information are voluntary. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 02/15/00 (65 FR 7544); no comments were received.

Burden Statement: The annual public reporting and recordkeeping burden for this collection of information is estimated to average 1.44 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of a community water system.

Estimated Number of Respondents: 1,442.

Frequency of Response: One time.

Estimated Total Annual Hour Burden: 2,078 hours.

Estimated Total Annualized Capital, O&M Cost Burden: $0.

Send comments on the Agency's need for this information, the accuracy of the provided burden estimates, and any suggested methods for minimizing respondent burden, including through the use of automated collection techniques to the addresses listed above. Please refer to EPA ICR No. 1946.01 in any correspondence.

Dated: September 13, 2000.
Oscar Morales,
Director, Collection Strategies Division.

[FR Doc. 00-24308 Filed 9-20-00; 8:45 am]

BILLING CODE 6560-50-P